DEPARTMENT OF HEALTH AND HUMAN SERVICES

Health Resources and Services Administration

Advisory Committee on Organ Transplantation; Notice of Meeting

In accordance with section 10(a)(2) of the Federal Advisory Committee Act (Pub. L. 92-463), notice is hereby given of the following meeting:

Name: Advisory Committee on Organ Transplantation (ACOT).

Date and Time: March 12, from 8:30 a.m. to 4:30 p.m. Eastern Standard Time. March 13, from 8:30 a.m. to 12:30 p.m. Eastern Standard Time.

Place: Health Resources and Services Administration, 5600 Fishers Lane, Room 05W11, Rockville, MD 20857.

Status: The meeting will be open to the public.

Purpose: Under the authority of 42 U.S.C. Section 217a, Section 222 of the Public Health Service Act, as amended, and 42 CFR 121.12 (2000), ACOT was established to assist the Secretary in enhancing organ donation, ensuring that the system of organ transplantation is grounded in the best available medical science, and assuring the public that the system is as effective and equitable as possible, thereby increasing public confidence in the integrity and effectiveness of the transplantation system. ACOT is composed of up to 25 members including the Chair. Members serve as Special Government Employees and have diverse backgrounds in fields such as organ donation, health care public policy, transplantation medicine and surgery, critical care medicine, and other medical specialties involved in the identification and referral of donors, non-physician transplant professions, nursing, epidemiology, immunology, law and bioethics, behavioral sciences, economics and statistics, as well as representatives of transplant candidates, transplant recipients, organ donors, and family members.

Agenda: The Committee will hear presentations, including those on the following topics: Kidney Paired Donation; Vascularized Composite Allografts; Donor Management Research; Living Donation; and the Affordable Care Act and Transplantation. Agenda items are subject to change as priorities indicate.

After Committee discussions, members of the public will have an opportunity to comment. Because of the Committee's full agenda and timeframe in which to cover the agenda topics, public comment will be limited. All public comments will be included in the record of the ACOT meeting. Meeting summary notes will be posted on the Department's organ donation Web site at http://www.organdonor.gov/legislation/advisory.html#meetings.

The draft meeting agenda will be posted on www.blsmeetings.net/ACOT. Those participating on this meeting should pre-register by visiting www.blsmeetings.net/ACOT. The deadline to pre-register for this meeting is Wednesday, March 11, 2015. Registration will be confirmed on site. For all logistical questions and concerns, please contact Anita Allen, Seamon Corporation at 301-658-3442 or send an email to aallen@seamoncorporation.com.

Public Comment: It is preferred that persons interested in providing an oral presentation email a written request, along with a copy of their presentation, to Patricia Stroup, MBA, MPA, Executive Secretary, Healthcare Systems Bureau, Health Resources and Services Administration, at pstroup@hrsa.gov. Requests should contain the name, address, telephone number, email address, and any business or professional affiliation of the person desiring to make an oral presentation. Groups having similar interests are requested to combine their comments and present them through a single representative.

The allocation of time may be adjusted to accommodate the level of expressed interest. Persons who do not file an advance request for a presentation, but desire to make an oral statement, may request it during the public comment period. Public participation and ability to comment will be limited to time as it permits. FOR FURTHER INFORMATION CONTACT: Patricia Stroup, MBA, MPA, Executive Secretary, Healthcare Systems Bureau, Health Resources and Services Administration, 5600 Fishers Lane, Room 17W65, Rockville, MD 20857; telephone (301) 443-1127.

Jackie Painter,
Director, Division of the Executive Secretariat.

[FR Doc. 2015-03929 Filed 2-25-15; 8:45 am]

BILLING CODE 4165-15-P